DEPARTMENT OF VETERANS AFFAIRS

Voluntary Service National Advisory Committee; Notice of Meeting

The Department of Veterans Affairs (VA) gives notice under Public Law 92-463 (Federal Advisory Committee Act) that the Executive Committee to the Department of Veterans Affairs Voluntary Service (VAVS) National Advisory Committee (NAC) will meet October 16-17, 2009. On October 16, the session will be in Room 630, at the Department of Veterans Affairs Central Office, 810 Vermont Avenue, NW., Washington, DC, from 8 a.m. to 4:30 p.m. On October 17, the session will be at the Hilton Crystal City, 2399 Jefferson Davis Highway, Arlington, VA, from 8 a.m. to Noon. The meeting is open to the public.

The Committee, comprised of sixty-four national voluntary organizations, advises the Secretary, through the Under Secretary for Health, on the coordination and promotion of volunteer activities within VA health care facilities. The Executive Committee consists of twenty representatives from the NAC member organizations.

On October 16, agenda topics will include: NAC goals and objectives, review of minutes from May 2009 NAC annual meeting, VAVS update on the Voluntary Service program's activities, Parke Board update, evaluations of the 2009 NAC annual meeting, and plans for 2010 NAC annual meeting.

On October 17, agenda topics will include: Recommendations from the 2009 NAC annual meeting, subcommittee reports, review of standard operating procedure revisions, 2010 NAC annual meeting plans, VA Volunteer Orientation presentation, and new business.

No time will be allocated at this meeting for receiving oral presentations from the public. However, interested persons may either attend or file statements with the Committee. Written statements may be filed either before the meeting or within 10 days after the meeting and addressed to: Ms. Laura Balun, Designated Federal Officer, Voluntary Service Office (10C2), Department of Veterans Affairs, 810 Vermont Avenue, NW., Washington, DC 20420. Ms. Balun can be contacted by phone at (202) 461-7300.

Dated: August 27, 2009.
By Direction of the Secretary.
E. Philip Riggin,
Committee Management Officer.

[FR Doc. E9-21150 Filed 9-1-09; 8:45 am]

BILLING CODE 8320-01-P